OFFICE OF PERSONNEL MANAGEMENT

Excepted Service; February 2016

AGENCY: U.S. Office of Personnel Management (OPM).

ACTION: Notice.

SUMMARY: This notice identifies Schedule A, B, and C appointing authorities applicable to a single agency that were established or revoked from February 1, 2016, to February 29, 2016.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during February 2016.

Schedule B

Section 213.3250 Consumer Financial Protection Bureau (Sch. B)

One position of Deputy Director; and one position of Associate Director of the Division of Supervision, Enforcement, and Fair Lending.

Schedule C

The following Schedule C appointing authorities were approved during February 2016.

Agency name | Organization name | Position title | Authorization No. | Effective date
Department of Agriculture | Rural Housing Service | State Director | DA160067 | 2/5/2016
Department of Commerce | Office of the Chief of Staff | Scheduling Assistant | DC160083 | 2/2/2016
Commodity Futures Trading Commission | Office of the Chairperson | Special Advisor | CT160001 | 2/3/2016
Department of Defense | Office of the Under Secretary of Defense (Policy) | Special Assistant for Deputy Assistant Secretary of Defense for Plans | DD160064 | 2/4/2016
| Office of the Assistant Secretary of Defense (Global Strategic Affairs) | Special Assistant, Plans and Capabilities | DD160033 | 2/10/2016
Department of Education | Office of the Secretary | Director of Advance | DB160031 | 2/3/2016
|  | Deputy Director, Education Technology | DB160033 | 2/3/2016
| Office of the Under Secretary | Policy Advisor | DB160022 | 2/10/2016
Department of Energy | Office of the Deputy Secretary | Special Assistant | DE160038 | 2/10/2016
| Office of the Secretary of Energy Advisory Board | Deputy Press Secretary | DE160059 | 2/10/2016
| Office of Public Affairs | Chief Speechwriter | DE160060 | 2/10/2016
Environmental Protection Agency | Office of the Associate Administrator for Congressional and Intergovernmental Relations | Deputy Associate Administrator for Congressional Affairs | EP160020 | 2/12/2016
| Office of Information Analysis and Access | Data Analyst | EP160023 | 2/12/2016
Department of Homeland Security | Office of Assistant Secretary for Legislative Affairs | Intergovernmental Affairs Coordinator | DM160124 | 2/5/2016
Department of Housing and Urban Development | Office of Congressional and Intergovernmental Relations | Advisor | DU160009 | 2/2/2016
Department of the Interior | Secretary's Immediate Office | Special Assistant | DI160027 | 2/2/2016
Department of Justice | Office of Legislative Affairs | Attorney Advisor | DJ160052 | 2/10/2016
| Office on Violence Against Women | Senior Advisor | DJ160053 | 2/17/2016
| Office of Public Affairs | Chief Speechwriter | DJ160054 | 2/18/2016
| Office of Justice Programs | Director, Center for Faith-Based and Neighborhood Partnerships | DJ160056 | 2/25/2016
Department of Labor | Office of Disability Employment Policy | Senior Advisor | DL160032 | 2/5/2016
| Occupational Safety and Health Administration | Senior Advisor | DL160034 | 2/11/2016
Office of Personnel Management | Healthcare and Insurance | Program Analyst | PM160015 | 2/17/2016
Office of the United States Trade Representative | Intergovernmental Affairs and Public Liaison | Director for Private Sector Engagement | TN160004 | 2/5/2016
Small Business Administration | Office of Communications and Public Liaison | Senior Advisor for Strategic Communications | SB160011 | 2/5/2016
|  | Deputy Associate Administrator for Communications and Public Liaison | SB160013 | 2/5/2016
Department of State | Office of the Secretary | Program Analyst | DS160045 | 2/5/2016
|  | Senior Advisor | DS150108 | 2/29/2016
Department of the Treasury | Office of Assistant Secretary for Management | Confidential Assistant | DY160034 | 2/2/2016
|  | Special Advisor | DY160035 | 2/2/2016
| United States Mint | Senior Advisor | DY160036 | 2/2/2016
| Office of Secretary of the Treasury | Deputy White House Liaison | DY160041 | 2/5/2016
| Office of Under Secretary for Domestic Finance | Outreach Manager | DY160040 | 2/10/2016

The following Schedule C appointing authorities were revoked during February 2016.

Agency name | Organization name | Position title | Request number | Vacate date
Department of Commerce | Office of Business Liaison | Senior Advisor | DC140011 | 02/05/2016
| Office of Legislative and Intergovernmental Affairs | Special Assistant | DC150138 | 02/05/2016
Office of the Secretary Of Defense | Office of Principal Deputy Under Secretary for Policy | Special Assistant to Deputy Assistant Secretary of Defense, Plans | DD140125 | 02/06/2016
| Office of the Secretary | Advance Officer | DD130123 | 02/06/2016
|  | Special Advisor to the Secretary of Defense | DD130116 | 02/07/2016
| Office of the Assistant Secretary of Defense (Global Strategic Affairs) | Special Assistant to the Deputy Under Secretary of Defense for Strategy, Plans and Forces | DD150013 | 02/09/2016
Department of Education | Office of Communications and Outreach | Assistant Press Secretary | DB140053 | 02/12/2016
Environmental Protection Agency | Office of the Administrator | Special Assistant to the Chief of Staff | EP150006 | 02/06/2016
| Office of Public Affairs | Advisor for Digital Strategy and Engagement | EP140047 | 02/20/2016
Federal Maritime Commission | Federal Maritime Commission | Senior Legislative and Public Affairs Specialist | MC160001 | 02/05/2016
Department of Health and Human Services | Office of the Assistant Secretary for Public Affairs | Senior Advisor | DH150163 | 02/05/2016
|  | Special Assistant for Specialty Media | DH140060 | 02/19/2016
| Office of Communications | Senior Advisor | DH150039 | 02/12/2016
Department of Homeland Security | Ombudsman, Citizenship and Immigration Services | Public Affairs Specialist | DM150013 | 02/01/2016
| Office of the Under Secretary for Science and Technology | Special Assistant to the Under Secretary for Science and Technology | DM150064 | 02/02/2016
| Office of Assistant Secretary for Legislative Affairs | Director of Legislative Affairs for Intelligence and Analysis | DM100222 | 02/06/2016
| Office of the Assistant Secretary for Public Affairs | Assistant Press Secretary | DM150221 | 02/20/2016
Department of Housing and Urban Development | Office of Housing | Public Affairs Specialist | DU130013 | 02/23/2016
| Office of Public Affairs | Deputy Press Secretary | DU110030 | 02/26/2016
Department of Labor | Office of the Deputy Secretary | Senior Policy Advisor | DL150059 | 02/20/2016
Office of Personnel Management | Office of the Director | Assistant Director, Office of Public Engagement | PM140028 | 02/20/2016
Small Business Administration | Office of Communications and Public Liaison | Deputy Assistant Administrator for Communications and Public Liaison | SB150008 | 02/06/2016
|  | Speechwriter | SB150038 | 02/06/2016
| Office of the Administrator | Senior Advisor to the Administrator | SB150055 | 02/20/2016
Department of State | Office of the Secretary | Special Assistant | DS130052 | 02/28/2016
Department of Transportation | Office of the Secretary | Special Assistant to the Secretary | DT150007 | 02/08/2016
| Office of Assistant Secretary for Governmental Affairs | Special Assistant | DT140049 | 02/20/2016

Authority: 5 U.S.C. 3301 and 3302; E.O. 10577, 3 CFR, 1954-1958 Comp., p. 218.

U.S. Office of Personnel Management.
Beth F. Cobert,
Acting Director.

[FR Doc. 2016-11724 Filed 5-17-16; 8:45 am]

BILLING CODE 6325-39-P